DEPARTMENT OF ENERGY

Federal Energy Regulatory Commission

[Project No. 6066-042]

McCallum Enterprises I Limited Partnership; Notice of Technical Conference

On Tuesday, September 30, 2025, Commission staff will hold a technical conference to receive updates on fish passage consultation from McCallum Enterprises I Limited Partnership (MELP) for the Derby Dam Hydroelectric Project No. 6066 (Project).

The conference will be held via teleconference beginning at 11:00 a.m. Eastern Standard Time.

All local, state, and federal agencies, Indian tribes, and other interested parties are invited to participate. There will be no transcript of the conference, but a summary of the meeting will be prepared for the project record. If you are interested in participating in the meeting you must contact Eric Fitzpatrick at (202) 502-8584 or eric.fitzpatrick@ferc.gov by September 25, 2025 to receive specific instructions on how to participate.

Dated: September 16, 2025.
Debbie-Anne A. Reese,
Secretary.

[FR Doc. 2025-18199 Filed 9-18-25; 8:45 am]

BILLING CODE 6717-01-P